DEPARTMENT OF LABOR

Employment and Training Administration

[TA-W-41,126]

U.S. Steel Corp., Clairton Works, Clairton, Pennsylvania; Notice of Termination of Investigation

Pursuant to section 221 of the Trade Act of 1974, an investigation was initiated on March 25, 2002 in response to a petition, which was filed by United Steelworkers of America, Local 1557, on behalf of workers at Clairton Works, U.S. Steel Corporation, Clairton, Pennsylvania.

The petitioner has requested that the petition be withdrawn. Consequently, further investigation in this case would serve no purpose, and the investigation has been terminated.

Signed in Washington, DC, this 15th day of May, 2002.
Linda G. Poole,
Certifying Officer, Division of Trade Adjustment Assistance.

[FR Doc. 02-13944 Filed 6-3-02; 8:45 am]

BILLING CODE 4510-30-P